DEPARTMENT OF COMMERCE

International Trade Administration

[A-570-855]

Non-Frozen Apple Juice Concentrate from the People's Republic of China: Extension of Time Limit for the Final Results of the New Shipper Antidumping Duty Review

AGENCY: Import Administration, International Trade Administration, Department of Commerce.

EFFECTIVE DATE: October 4, 2010.

FOR FURTHER INFORMATION CONTACT: Alexis Polovina, AD/CVD Operations, Office 9, Import Administration, International Trade Administration, U.S. Department of Commerce, 14th Street and Constitution Avenue, NW, Washington, DC 20230; telephone: (202) 482-3927.

SUPPLEMENTARY INFORMATION:

Background

On August 5, 2010, the Department of Commerce (“Department”) published in the Federal Register its preliminary results of the new shipper review of the antidumping duty order on non-frozen apple juice concentrate from the People's Republic of China (“PRC”).¹ This review covers the period June 1, 2009, through January 20, 2010. The final results of review are currently due no later than October 28, 2010.

¹ See Certain Non-Frozen Apple Juice Concentrate from the People's Republic of China: Notice of Preliminary Results of the New Shipper Review, 75 FR 47270 (August 5, 2010).

Extension of Time Limit for Final Results of Review

Section 751(a)(2)(B)(iv) of the Tariff Act of 1930, as amended (the Act), and 19 CFR 351.214(i)(1), provide that the Department will issue the final results of review within 90 days after the date on which the preliminary results were issued. However, if the Secretary concludes that a new shipper review is extraordinarily complicated, the Secretary may extend the 90-day period to 150 days. See 19 CFR 351.214(i)(2).

The Department determines that this new shipper review involves extraordinarily complicated methodological issues, including the continued evaluation of the most appropriate methodology for valuing labor. Therefore, in accordance with section 751(a)(2)(B)(iv) of the Act and 19 CFR 351.214(i)(2), the Department is extending the time limit for the final results from 90 days to 150 days. Therefore, the final results will now be due no later than December 27, 2010.

We are issuing and publishing this notice in accordance with sections 751(a)(2)(B)(iv) and 777(i) of the Act.

Dated: September 28, 2010.
Susan H. Kuhbach,
Acting Deputy Assistant Secretary for Antidumping and Countervailing Duty Operations.

[FR Doc. 2010-24832 Filed 10-1-10; 8:45 am]

BILLING CODE 3510-DS-S